DEPARTMENT OF HEALTH AND HUMAN SERVICES

Administration for Children and Families

[Office of Management and Budget #: 0970-0139]

Proposed Information Collection Activity; Administration for Children and Families Uniform Project Description

AGENCY: Office of Administration, Office of Grants Policy, Administration for Children and Families, U.S. Department of Health and Human Services.

ACTION: Request for public comments.

SUMMARY: The Administration for Children and Families (ACF) is requesting revisions and a one-year extension of the currently approved ACF Uniform Project Description (UPD) information collection (UPD; Office of Management and Budget (OMB) # 0970-0139, March 31, 2026 expiration date). This includes transitioning to use one simplified version of the UPD with edits to the language for clarification and plain language purposes. Two versions of the instructions remain in the proposed simplified version to accommodate two development methods. ACF is in the process of identifying more significant revisions to the UPD, which will be submitted through a future information collection request to OMB.

DATES: Comments due February 27, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: The UPD provides a uniform format for applicants to submit project information in response to ACF discretionary Notice of Funding Opportunities (NOFO). The UPD requires applicants to describe how program objectives will be achieved and provide a rationale for the project's budgeted costs. All ACF discretionary award programs are required to use the UPD.

Since 2023, there have been two versions of the UPD: the traditional version and the simplified version (SimplerNOFOs). SimplerNOFOs were implemented as a pilot, as approved by OMB. SimplerNOFOs streamline the process for applicants and has been well received by programs and applicants. ACF has expanded use of the simplified version as a result. At this time, ACF is proposing to transition completely to the SimplerNOFO UPD, but will retain two sets of instructions for now due to the way NOFOs are currently developed. The distinction is made in the instructions with the labels “SimplerNOFO” v. “Traditional NOFO”.

ACF uses the information provided by applicants, along with other OMB-approved information collections (Standard Forms), to evaluate and rank applications. Use of the UPD protects the integrity of the ACF award selection process.

This current request would extend OMB approval for an additional year, with the following changes:

—Minor revisions for clarification and plain language purposes

—Updated burden estimates to only include the SimplerNOFOs UPD.

A larger revision effort is in process and will be submitted to OMB in the future. This future revision request will include two additional opportunities for public comment.

Respondents: Applicants responding to ACF Discretionary NOFOs.

Annual Burden Estimates
Instrument | Total number of respondents | Total number of responses per respondent | Average burden hours per response | Total/annual burden hours
Streamlined UPD | 2,672 | 1 | 57.9 | 154,709

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 2 CFR 200.204.

Mary C. Jones,
ACF/OPRE Certifying Officer.

[FR Doc. 2025-23905 Filed 12-23-25; 8:45 am]

BILLING CODE 4184-01-P